DEPARTMENT OF AGRICULTURE

Rural Business-Cooperative Service

Notice of Request for Revision of a Currently Approved Information Collection

AGENCY: Rural Business-Cooperative Service, USDA.

ACTION: Proposed collection; Comments requested.

SUMMARY: In accordance with the Paperwork Reduction Act of 1995, this notice announces the Rural Business-Cooperative Service's intention to request a revision for a currently approved information collection in support of the Business and Industry (B&I) Loan Program.

DATES: Comments on this notice must be received by July 13, 2018 to be assured of consideration.

FOR FURTHER INFORMATION CONTACT: Janna Bruce, Business and Industry Division, Rural Business-Cooperative Service, U.S. Department of Agriculture, Stop 3224, telephone (202) 401-0081, or email janna.bruce@wdc.usda.gov. Persons with disabilities who require alternative means of communication for program information should contact USDA's TARGET Center at (202) 720-2600 (voice and TTY) or contact USDA through the Federal Relay Service at (800) 877-8339.

SUPPLEMENTARY INFORMATION:

Title: Business and Industry Loan Program.

OMB Number: 0570-0014.

Expiration Date of Approval: September 30, 2018.

Type of Request: Revision of a currently approved information collection and recordkeeping requirements.

Abstract: The collected information is submitted to the B&I loan official by loan applicants and commercial lenders for use in making program eligibility, financial feasibility determinations and loan security determinations as required by the Con Act.

Estimate of Burden: Public reporting for this collection of information is estimated to average 3 hours per response.

Respondents: Individuals, rural businesses, for profit businesses, non-profit businesses, Indian tribes, public bodies, cooperatives.

Estimated Number of Respondents: 16.

Estimated Number of Responses per Respondent: 4.31.

Estimated Number of Responses: 69.

Estimated Total Annual Burden on Respondents: 228 hours.

Copies of this information collection can be obtained from Jeanne Jacobs, Regulations and Paperwork Management Branch, Support Services Division, at (202) 692-0040.

Comments

Comments are invited on: (a) Whether the proposed collection of information is necessary for the proper performance of the functions of Rural Business-Cooperative Service, including whether the information will have practical utility; (b) the accuracy of Rural Business-Cooperative Service's estimate of the burden of the proposed collection of information including the validity of the methodology and assumptions used; (c) ways to enhance the quality, utility, and clarity of the information to be collected; and (d) ways to minimize the burden of the collection of information on those who are to respond, including through the use of appropriate automated, electronic, mechanical, or other technological collection techniques or other forms of information technology. Comments may be sent to Jeanne Jacobs, Regulations and Paperwork Management Branch, Support Services Division, U.S. Department of Agriculture, Rural Development, STOP 0742, 1400 Independence Ave. SW, Washington, DC 20250. All responses to this notice will be summarized and included in the request for OMB approval. All comments will also become a matter of public record.

Dated: May 5, 2018.
Bette B. Brand,
Administrator, Rural Business-Cooperative Service.

[FR Doc. 2018-10222 Filed 5-11-18; 8:45 am]

BILLING CODE 3410-XY-P